PRIVACY AND CIVIL LIBERTIES OVERSIGHT BOARD

[Notice-PCLOB-2019-01; Docket No. PCLOB-2019-0001; Sequence No. 1]

Public Forum

AGENCY: Privacy and Civil Liberties Oversight Board.

ACTION: Notice of public forum; request for public comment.

SUMMARY: The Privacy and Civil Liberties Oversight Board will conduct a public forum entitled “Countering Terrorism while Protecting Privacy and Civil Liberties: Where do We Stand in 2019.” During the forum, Board Members will hear from governmental and non-governmental experts on privacy and civil liberties and on efforts to protect the nation against terrorism. Members of the public in attendance will have an opportunity to ask questions of the expert presenters.

DATES: The forum will be held on Friday, February 8, 2019, from 10:00 a.m. to 12:00 p.m. (Eastern Standard Time. Please submit comments on or before March 8, 2019.

EVENT LOCATION: Ronald Reagan Building, Hemisphere Room, 1300 Pennsylvania Ave. NW, Washington, DC 20004.

FOR FURTHER INFORMATION CONTACT: Jen Burita, Public Affairs/Legislative Affairs Officer, 202-331-1986.

SUPPLEMENTARY INFORMATION:

Doors open at 9:30 a.m. The forum will begin promptly at 10:00 a.m.

Participant List

The Board will hear from these experts:

• Alexander Joel—Chief, Office of Civil Liberties, Privacy and Transparency, Office of the Director of National Intelligence

• Chris Calabrese—Vice President, Policy, Center for Democracy & Technology

• Carrie Cordero—Senior Fellow and General Counsel, Center for a New American Security

• Alex Abdo—Senior Staff Attorney, Knight First Amendment Institute at Columbia University

• Jason Matheny—Commissioner on the National Security Commission on Artificial Intelligence (AI) and former Director of the Intelligence Advanced Research Projects Activity (IARPA) for the Office of the Director of National Intelligence.

Procedures for Public Observation

The event is open to the public. Pre-registration is not required. Members of the public will have an opportunity to offer comments and pose questions to the panelists.

Individuals who plan to attend and require special assistance should contact Jen Burita, Public Affairs/Legislative Affairs Officer, 202-331-1986, at least 72 hours prior to the event.

Public Comments

The Privacy and Civil Liberties Oversight Board invites written comments of interested persons regarding privacy in the counterterrorism context. You may submit comments with the docket number PCLOB-2019-01 by the following method:

• Federal eRulemaking Portal: Go to http://www.regulations.gov. Please search by `Notice PCLOB-2019-01' and follow the on-line instructions for submitting comments.

• Written comments may be submitted at any time prior to the closing of the docket at 11:59 p.m., EST, on March 8, 2019.

All comments will be made publicly available and posted without charge. Do not include personal or confidential information.

Dated: January 31, 2019.
Eric Broxmeyer,
General Counsel, Privacy and Civil Liberties Oversight Board.

[FR Doc. 2019-02204 Filed 2-12-19; 8:45 am]

BILLING CODE 6820-B5-P